DEPARTMENT OF THE TREASURY

Office of Foreign Assets Control

31 CFR Parts 560 and 594

Publication of Iranian Transactions and Sanctions Regulations and Global Terrorism Sanctions Regulations Web General Licenses 8 and 8A

AGENCY: Office of Foreign Assets Control, Treasury.

ACTION: Publication of web general licenses.

SUMMARY: The Department of the Treasury's Office of Foreign Assets Control (OFAC) is publishing two general licenses (GLs) issued pursuant to the Iranian Transactions and Sanctions Regulations and Global Terrorism Sanctions Regulations: GLs 8 and 8A, each of which previously was made available on OFAC's website.

DATES: GL 8 was issued on February 27, 2020. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 27, 2020, OFAC issued GL 8 to authorize certain transactions otherwise prohibited by the Iranian Transactions and Sanctions Regulations, 31 CFR part 560, and the Global Terrorism Sanctions Regulations, 31 CFR part 594. At the time of issuance, OFAC made GL 8 available on its website. On October 26, 2020, OFAC issued GL 8A, which replaced and superseded GL 8, and made GL 8A available on its website. The text of GLs 8 and 8A is provided below:

OFFICE OF FOREIGN ASSETS CONTROL

Global Terrorism Sanctions Regulations

31 CFR Part 594

Iranian Transactions and Sanctions Regulations

31 CFR Part 560

GENERAL LICENSE NO. 8

Authorizing Certain Humanitarian Trade Transactions Involving the Central Bank of Iran

(a) Except as provided in paragraph (b) of this general license, the following transactions and activities involving the Central Bank of Iran (CBI) that are prohibited under the Global Terrorism Sanctions Regulations, 31 CFR part 594 (GTSR), or the Iranian Transactions and Sanctions Regulations, 31 CFR part 560 (ITSR), are authorized:

(i) transactions and activities described in the general licenses set forth at §§ 560.530(a) and (b), 560.532, and 560.533 of the ITSR;

(ii) transactions and activities ordinarily incident and necessary to transactions described in paragraph (a)(i) of this general license that are authorized under § 560.516 of the ITSR or consistent with § 560.405 of the ITSR; and

(iii) transactions and activities authorized under any specific license issued pursuant to §§ 560.530, 560.532, or 560.533 of the ITSR.

Note 1 to paragraph (a): Paragraph (a) of this general license does not authorize the exportation or reexportation of goods set forth in 31 CFR 560.530(a)(1)(ii) to the CBI, as set forth in § 560.530(a)(1) of the ITSR.

Note 2 to paragraph (a): Section 560.530(d)(5) of the ITSR excludes from the scope of § 560.530 any transaction or dealing with a person whose property and interests in property are blocked pursuant to 31 CFR part 594, among other authorities. Paragraph (a) of this general license authorizes certain transactions involving the CBI that, due to the exclusion at § 560.530(d)(5), are otherwise prohibited by the ITSR. Any transactions otherwise prohibited by the ITSR must be separately licensed pursuant to the ITSR.

(b) This general license does not authorize any transactions or activities that are otherwise prohibited by the GTSR, Executive Order 13224 of September 23, 2001, as amended by Executive Order 13886 of September 9, 2019, or by any other part of 31 CFR chapter V.

Andrea Gacki,

Director, Office of Foreign Assets Control.

Dated: February 27, 2020.

OFFICE OF FOREIGN ASSETS CONTROL

Global Terrorism Sanctions Regulations

31 CFR Part 594

Iranian Transactions and Sanctions Regulations

31 CFR Part 560

GENERAL LICENSE NO. 8A

Authorizing Certain Humanitarian Trade Transactions Involving the Central Bank of Iran or the National Iranian Oil Company

(a) Except as provided in paragraph (b) of this general license, the following transactions and activities involving the Central Bank of Iran (CBI), the National Iranian Oil Company (NIOC), or any entity in which NIOC owns, directly or indirectly, a 50 percent or greater interest, that are prohibited under the Global Terrorism Sanctions Regulations, 31 CFR part 594 (GTSR), or the Iranian Transactions and Sanctions Regulations, 31 CFR part 560 (ITSR), are authorized:

(i) transactions and activities described in the general licenses set forth at §§ 560.530(a) and (b), 560.532, and 560.533 of the ITSR;

(ii) transactions and activities ordinarily incident and necessary to transactions described in paragraph (a)(i) of this general license that are authorized under § 560.516 of the ITSR or consistent with § 560.405 of the ITSR; and

(iii) transactions and activities authorized under any specific license issued pursuant to §§ 560.530, 560.532, or 560.533 of the ITSR.

Note to paragraph (a): Section 560.530(d)(5) of the ITSR excludes from the scope of § 560.530 any transaction or dealing with a person whose property and interests in property are blocked pursuant to the GTSR, among other authorities. Paragraph (a) of this general license authorizes certain transactions involving the CBI, NIOC, or any entity in which NIOC owns, directly or indirectly, a 50 percent or greater interest, that, due to the exclusion at § 560.530(d)(5), would otherwise be prohibited by the ITSR. Any transactions still prohibited by the ITSR, notwithstanding this general license, must be separately licensed pursuant to the ITSR.

(b) This general license does not authorize:

(i) the exportation or reexportation of goods set forth in 560.530(a)(1)(ii) of the ITSR to the CBI, NIOC, or any entity in which NIOC owns, directly or indirectly, a 50 percent or greater interest, as set forth in § 560.530(a)(1) of the ITSR; or

(ii) any transactions or activities that are otherwise prohibited by the ITSR, the GTSR, Executive Order 13224 of September 23, 2001, as amended by Executive Order 13886 of September 9, 2019, or any other part of 31 CFR chapter V.

(c) Effective October 26, 2020, General License No. 8, dated February 27, 2020, is replaced and superseded in its entirety by this General License No. 8A.

Andrea Gacki,

Director, Office of Foreign Assets Control.

Dated: October 26, 2020.

Andrea M. Gacki,
Director, Office of Foreign Assets Control.

[FR Doc. 2022-20417 Filed 9-26-22; 8:45 am]

BILLING CODE 4810-AL-P